DEPARTMENT OF HOMELAND SECURITY

[Docket No. DHS-2007-0067]

Science and Technology Directorate; Submission for Review; New Information Collection Request for Support of SBIR/STTR Company Registration Form, Research Topic Recommendation Form, Ask a Question Form, Collaboration Opportunity Form, Reviewer Opportunity Form, E-mail Mailing List Signup Form, E-mail Mailing List Removal Form, Proposal Coversheet Form, Cost Proposal Form

AGENCY: Science and Technology Directorate, DHS.

ACTION: 30-day Notice and request for comment.

SUMMARY: The Department of Homeland Security (DHS) invites interested persons to comment on the following forms for the Small Business Innovation Research (SBIR) program: Company Registration (DHS FORM 10022), Research Topic Recommendation (DHS FORM 10018), Ask a Question (DHS FORM 10020), Collaboration Opportunity (DHS FORM 10021), Reviewer Opportunity (DHS FORM 10019), E-mail Mailing List Signup (DHS FORM 10016), E-mail Mailing List Removal (DHS FORM 10024), Proposal Coversheet (DHS FORM 10017), Cost Proposal (DHS FORM 10023) forms and instructions (hereinafter “Forms Package”) designed to collect proposal information from small businesses through the SBIR Web site. This notice and request for comments is required by the Paperwork Reduction Act of 1995 (Pub. L. 104-13, 44 U.S.C. chapter 35).

DATES: Comments are encouraged and will be accepted until October 9, 2007. This process is conducted in accordance with 5 CFR 1320.10.

ADDRESSES: You may submit comments, identified by docket number [DHS-2007-0067], by one of the following methods:

• Federal eRulemaking Portal: http://www.regulations.gov. Follow the instructions for submitting comments.

• E-mail: ken.rogers@dhs.gov. Include docket number [DHS-2007-0067] in the subject line of the message.

• Mail: Science and Technology Directorate, ATTN: OCIO/Kenneth D. Rogers, 245 Murray Drive, Bldg 410, Washington, DC 20528.

FOR FURTHER INFORMATION CONTACT: Kenneth D. Rogers (202) 254-6185 (this is not a toll free number).

SUPPLEMENTARY INFORMATION: This request for comment was previously published in the Federal Register on June 15, 2007, for a 60-day public comment period ending August 14, 2007. No comments were received by DHS during the 60-day comment period. The purpose of this notice is to allow an additional 30 days for public comments. This notice and request for comments is required by the Paperwork Reduction Act of 1995 (Pub. L. 104-13, 44 U.S.C. chapter 35).

DHS invites the general public to comment on the new information collection forms, as described below.

Interested parties can obtain copies of the Forms Package by calling or writing the point of contact listed above.

The Department of Homeland Security (DHS) Small Business Innovation Research (SBIR) program established under the Small Business Innovation Development Act of 1982 (Pub. L. 97-219) is responsible for collecting information used by the DHS SBIR/Small Business Technology Transfer (STTR) Program Office to: 1. Identify members of the public who qualify for, and are interested in participating in, the DHS SBIR/STTR Program; 2. Facilitate SBIR/STTR outreach to the public; 3. Provide the DHS SBIR/STTR Program Office necessary and sufficient information to determine that proposals submitted by the public to the DHS SBIR/STTR Program meet criteria for consideration under the program.

Please note that the Forms Package includes nine forms for collecting proposal information from small businesses. As explained herein, these separate forms are intended to reduce burden and improve records management by (1) allowing offerors to submit identifying information only once and then to reference that previously submitted identifying information in the submittal of proposals, (2) eliminating the cost and delay associated with the submission of proposals via non-electronic means, (3) facilitating timely review of proposals, and (4) improving the accuracy of records management for proposals. The Department is committed to improving its SBIR processes and urges all interested parties to suggest how these materials can further reduce burden while seeking necessary information under the Act.

DHS is particularly interested in comments that:

(1) Evaluate whether the proposed collection of information is necessary for the proper performance of the functions of the agency, including whether the information will have practical utility;

(2) Evaluate the accuracy of the agency's estimate of the burden of the proposed collection of information, including the validity of the methodology and assumptions used;

(3) Suggest ways to enhance the quality, utility, and clarity of the information to be collected; and

(4) Suggest ways to minimize the burden of the collection of information on those who are to respond, including through the use of appropriate automated, electronic, mechanical, or other technological collection techniques or other forms of information technology, e.g., permitting electronic submissions of responses.

Overview of This Information Collection

(1) Type of Information Collection: New information collection.

(2) Title of the Form/Collection: Company Registration Form, Research Topic Recommendation Form, Ask a Question Form, Collaboration Opportunity Form, Reviewer Opportunity Form, E-mail Mailing List Signup Form, E-mail Mailing List Removal Form, Proposal Coversheet Form, Cost Proposal Form.

(3) Agency Form Number, if any, and the applicable component of the Department of Homeland Security sponsoring the collection: Company Registration Form (DHS FORM 10022), Research Topic Recommendation Form (DHS FORM 10018), Ask a Question Form (DHS FORM 10020), Collaboration Opportunity Form (DHS FORM 10021), Reviewer Opportunity Form (DHS FORM 10019), E-mail Mailing List Signup Form (DHS FORM 10016), E-mail Mailing List Removal Form (DHS FORM 10024), Proposal Coversheet Form (DHS FORM 10017), Cost Proposal Form (DHS FORM 10023).

(4) Affected public who will be asked or required to respond, as well as a brief abstract: Business or other for-profit; the data collected through the SBIR Forms Package will be used to collect and review proposals from small businesses.

(5) An estimate of the total number of respondents and the amount of time estimated for an average respondent to respond: Company Registration Form—400 respondents annually/15 minutes per respondent, Research Topic Recommendation Form—120 respondents annually/15 minutes per respondent, Ask a Question Form—150 respondents annually/10 minutes per respondent, Collaboration Opportunity Form—100 respondents annually/15 minutes per respondent, Reviewer Opportunity Form—100 respondents annually/15 minutes per respondent, E-mail Mailing List Signup Form—300 respondents annually/10 minutes per respondent, E-mail Mailing List Removal Form—180 respondents annually/10 minutes per respondent, Proposal Coversheet Form—460 respondents annually/30 minutes per respondent, Cost Proposal Form—370 respondents annually/1 hour per respondent.

(6) An estimate of the total public burden (in hours) associated with the collection: 885 burden hours.

Dated: August 29, 2007.
Kenneth D. Rogers,
Chief Information Officer, Science and Technology Directorate.

[FR Doc. E7-17570 Filed 9-5-07; 8:45 am]

BILLING CODE 4410-10-P